DEPARTMENT OF THE TREASURY

Submission for OMB Review; Comment Request

July 23, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before August 28, 2009 to be assured of consideration.

Office of Financial Stability (OFS)

OMB Number: 1505-0210.

Type of Review: Extension.

Title: Troubled Assets Relief Program (TARP) Capital Purchase Program (CPP) Monthly Survey.

Description: Authorized under the Emergency Economic Stabilization Act (EESA) of 2008 (Pub. L. 110-343), the Department of the Treasury has implemented several aspects of the Troubled Asset Relief Program. Among these components is a voluntary Capital Purchase Program (CPP) under which the Department may purchase qualifying capital in U.S. banking organizations. The Treasury invested capital through this program in over 250 financial institutions. As part of this program, Treasury would like to track how the capital is being used, and whether these capital injections are having the desired effect of ensuring liquidity within the banking system and thereby increasing lending activity. The Treasury will be conducting evaluations using quarterly Call Report data supplied by these financial institutions to their primary regulator. However, in order to have a more frequent and timely snapshot of the current lending environment, Treasury is requesting the ability to conduct a monthly survey of the 20 largest institutions by loans outstanding in order to supplement the quarterly analysis.

Respondents: Businesses and other for-profit institutions.

Estimated Total Reporting Burden: 200 hours.

Clearance Officer: Suzanne Tosini, (202) 927-9627, 1801 L St, NW., Room 8219, Washington, DC 20036.

OMB Reviewer: OIRA Desk Officer, Office of Management and Budget, Room 10235, New Executive Office Building, Washington, DC 20503, oira_submission@omb.eop.gov.

Robert Dahl,
Treasury PRA Clearance Officer.

[FR Doc. E9-18112 Filed 7-28-09; 8:45 am]

BILLING CODE 4810-25-P